DEPARTMENT OF DEFENSE

Office of the Secretary of Defense

[DoD-2007-OS-0142]

Privacy Act of 1974; Systems of Records

AGENCY: Department of Defense, Defense Finance and Accounting Service.

ACTION: Notice to Add a New System of Records.

SUMMARY: The Defense Finance and Accounting Service (DFAS) is proposing to add a system of records notice to its inventory of record systems subject to the Privacy Act of 1974, (5 U.S.C. 552a), as amended.

DATES: This action will be effective without further notice on January 28, 2008 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on December 19, 2007, to the House Committee on Government Reform, the Senate Committee on Governmental Affairs, and the Office of Management and Budget (OMB) pursuant to paragraph 4c of Appendix I to OMB Circular No. A-130, ‘Federal Agency Responsibilities for Maintaining Records About Individuals,’ dated December 12, 2000, 65 FR 239.

Dated: December 20, 2007.
L.M. Bynum,
Alternate OSD Federal Register Liaison Officer, Department of Defense.

T7315

System name:

U.S. Savings Bond System.

System location:

Defense Information Systems Agency (DISA), Defense Enterprise Computing Center (DECC) Mechanicsburg—Bldg 308, Naval Support Activity (NSA), 5450 Carlisle Pike, Mechanicsburg, PA 17050-2411.

Categories of individuals covered by the system:

Department of Defense Active duty military members.

Categories of records in the system:

Individuals' name, Social Security Number (SSN) and electronic U.S. Savings Bonds data.

Authority for maintenance of the system:

5 U.S.C. 301, Departmental Regulations; Department of Defense Financial Management Regulation (DoDFMR) 7000.14-R, Volume 5, Chapter 23; 31 U.S.C. Chapter 33; and E.O. 9397 (SSN).

Purpose(s):

To establish a system of record in support of the U.S. Savings Bond Program. This system will allow active duty military members for all branches of the service to request bonds they have purchased through allotment deductions to be kept in safekeeping.

Routine uses of records maintained in the system, including categories of users and the purposes of such uses:

In addition to those disclosures generally permitted under 5 U.S.C. 552a(b) of the Privacy Act, the records or information contained therein may specifically be disclosed outside the DoD as a routine use pursuant to 5 U.S.C. 552a(b)(3) as follows:

To the U.S. Treasury Department to provide information on U.S. bonds issued to military members.

The DoD ‘Blanket Routine Uses’ published at the beginning of the DoD compilation of systems of records notices apply to this system.

Policies and practices for storing, retrieving, accessing, retaining, and disposing of records in the system:

Storage:

Records are stored electronically.

Retrievability:

Name and Social Security Number (SSN).

Safeguards:

Records are stored in an office building protected by guards, controlled screening, use of visitor registers, electronic access, and/or locks. Access to records is limited to individuals who are properly screened and cleared on a need-to-know basis in the performance of their duties. Passwords are used to control access to the system data, and procedures are in place to detect and deter browsing and unauthorized access.

Retention and disposal:

Disposition Pending (until NARA disposition is approved, treat as permanent).

System manager(s) and address:

System Manager, Defense Finance and Accounting Service, Systems Management Directorate, Navy Working Capital Fund Systems Office, 1240 East Ninth Street, Cleveland, OH 44199-8002.

System Manager, Defense Finance and Accounting Service, Information and Technology Directorate, Accounting Systems Division, 1240 East Ninth Street, Cleveland, OH 44199-8002. Telephone number(216) 204-3064.

Notification procedure:

Individuals seeking to determine whether information about them is contained in this record system should address written inquiries to the Defense Finance and Accounting Service, Freedom of Information/Privacy Act Program Manager, Corporate Communications and Legislative Liaison, 6760 E. Irvington Place, Denver, CO 80279-8000.

Request should contain individual's full name, Social Security Number (SSN), current address, telephone number and provide a reasonable description of what they are seeking.

Record access procedures:

Individuals seeking access to information about them that is contained in this system should address written inquiries to Defense Finance and Accounting Service, Freedom of Information/Privacy Act Program Manager, Corporate Communications and Legislative Liaison, 6760 E. Irvington Place, Denver, CO 80279-8000.

Request should contain individual's full name, Social Security Number (SSN), current address, telephone number and provide a reasonable description of what they are seeking.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From individuals, Department of Defense Components, such as, United States Air Force, Army, Navy, and Marine Corps.

Exemptions claimed for the system:

None.

[FR Doc. E7-25287 Filed 12-27-07; 8:45 am]

BILLING CODE 5001-06-P